DEPARTMENT OF EDUCATION

Applications for New Awards; State-Tribal Education Partnership (STEP) Pilot Grant Competition; Reopening the Fiscal Year 2012 Competition

AGENCY: Office of Elementary and Secondary Education, Department of Education.

ACTION: Notice reopening the STEP Pilot Grant Competition for fiscal year (FY) 2012.

Catalog of Federal Domestic Assistance (CFDA) Number: 84.415.

SUMMARY: On May 29, 2012, we published in the Federal Register (77 FR 31592) a notice inviting applications for the FY 2012 STEP Pilot Grant Competition. That notice established a July 13, 2012, deadline for transmittal of applications. We are reopening the competition for eligible applicants. Applications are due August 9, 2012.

DATES: Applications Available: July 26, 2012.

Deadline for Transmittal of Applications: August 9, 2012.

FOR FURTHER INFORMATION CONTACT: Tara Ramsey, U.S. Department of Education, 400 Maryland Avenue SW. 3E309 Washington, 20202. Telephone: (202) 260-2063 or by email: step@ed.gov.

If you use a telecommunications device for the deaf (TDD) or a text telephone (TTY), call the Federal Relay Service (FRS), toll free, at 1-800-877-8339.

Individuals with disabilities can obtain this document and a copy of the application package in an accessible format (e.g., braille, large print, audiotape, or compact disc) by contacting the program person listed in this section.

SUPPLEMENTARY INFORMATION: We are reopening this competition in order to allow applicants more time to prepare and submit their applications. Given the number of application requirements, the unique nature of this pilot competition, and the short deadline for applications (45 days), some applicants might not have had sufficient time to complete all requirements. At this time we have received a very limited number of applications. In addition, we understand that there was confusion in the field about the preliminary agreement requirement and the consortia requirements for this competition. Therefore, we are supplementing the “Frequently Asked Questions” document with additional questions and will re-post the document on the STEP Web site, http://www2.ed.gov/programs/step, on the same day that this notice is published.

All eligible applicants are encouraged to apply. Eligible applicants that submitted their applications by the July 13, 2012, deadline may, but are not required to, resubmit their applications. We encourage all applicants to review carefully the “Frequently Asked Questions” document available on the program Web site at http://www2.ed.gov/programs/step to ensure that they have met all requirements.

All information in the May 29, 2012, notice inviting applications for this competition remains the same, except for the deadline date. Information about the STEP program and competition is available on the program Web site at http://www2.ed.gov/programs/step.

Applications for grants under the STEP Competition, CFDA number 84.415, must be submitted electronically using the Government-wide Grants.gov Apply site at www.Grants.gov. For information about how to submit your application electronically, please refer to Electronic Submission of Applications in section IV.7. of the May 29, 2012, notice (77 FR 31592, 31597).

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 7451(a)(4).

Dated: July 20, 2012.
Deborah S. Delisle,
Assistant Secretary for Elementary and Secondary Education.

[FR Doc. 2012-18304 Filed 7-25-12; 8:45 am]

BILLING CODE 4000-01-P